DEPARTMENT OF THE INTERIOR

Bureau of Land Management

[14XL.LLIDT02000.L12200000.MA0000.241A.00]

Proposed Supplementary Rules for the Castle Rocks Land Use Plan Amendment Area, Idaho

AGENCY: Bureau of Land Management, Interior.

ACTION: Notice of proposed supplementary rules.

SUMMARY: The Bureau of Land Management (BLM) is proposing supplementary rules for all BLM-administered public lands within an approximately 400-acre area in Idaho known as Castle Rocks. The BLM addressed this area in the November 2013 Cassia Resource Management Plan (CRMP) Amendment and Record of Decision (ROD). The CRMP amendment made implementation-level decisions designed to conserve natural and cultural resources while providing for recreational opportunities. These supplementary rules would allow the BLM and law enforcement partners to enforce those decisions.

DATES: Interested parties may submit written comments regarding the proposed supplementary rules until December 15, 2014.

ADDRESSES: You may submit comments by mail, electronic mail, or hand-delivery. Mail or Hand Delivery: Dennis Thompson, Outdoor Recreation Planner, Bureau of Land Management, Burley Field Office, 15 East 200 South, Burley, ID 83318. email: blm_id_monumentcassiarmpamend@blm.gov.

FOR FURTHER INFORMATION CONTACT: Dennis Thompson, Outdoor Recreation Planner, at 208-677-6664 or by email at dthompson@blm.gov. Persons who use a telecommunications device for the deaf (TDD) may call the Federal Information Relay Service (FIRS) at 1-800-877-8339 to contact Mr. Thompson.

SUPPLEMENTARY INFORMATION:

I. Background

II. Public Comment Procedures

III. Discussion of Proposed Supplementary Rules

IV. Procedural Matters

I. Background

Castle Rocks is a dramatic geologic area located in the southern Albion Mountain Range of Cassia County, Idaho. Castle Rocks consists primarily of quartz-monzonite, a type of granite associated with the Almo Pluton. Pinnacles and monoliths, towering over 400 feet in local relief, characterize the area. Castle Rocks currently contains near pristine cultural and natural resources.

Until 2003, a difficult and lengthy hike from Stines Pass was the only way for the public to reach Castle Rocks, due to the unique ownership pattern and geography of the surrounding lands. This limited access helped preserve rare resources that are of great importance to the Shoshone-Bannock Tribes of Fort Hall and the Shoshone-Paiute Tribes of Duck Valley. Castle Rocks became less isolated after passage of the Castle Rock Ranch Acquisition Act of 2000 (Pub. L. 106-421), which authorized the National Park Service (NPS) to purchase a private ranch that provided convenient public access on the east side of the geologic area. After the acquisition, the NPS exchanged the property with the Idaho Department of Parks and Recreation (IDPR) for other lands adjacent to existing NPS properties.

Since May 25, 2003, the IDPR has provided park facilities and has managed recreation at Castle Rocks. Starting in 2003, the BLM has protected the 400-acre parcel that is under its management by issuing a series of temporary closure orders prohibiting rock climbing, camping, staging, and trail building. In 2012, the BLM determined that amending the CRMP was necessary to properly manage the area. The decision in the CRMP was to close the area permanently to rock climbing, camping, staging, and trail building. This decision was made to protect significant cultural resources that were, or had the potential to be, adversely impacted by these activities. The Shoshone-Bannock Tribes of Fort Hall and the Shoshone-Paiute Tribes of Duck Valley consider the area a sacred site and have requested the assistance of the Burley Field Office in nominating the area as a Traditional Cultural Property under the National Historic Preservation Act.

The supplementary rules proposed here would allow the BLM to achieve management objectives and implement the CRMP amendment. They would also provide the BLM with enforcement capability to prevent damage to cultural and natural resources.

II. Public Comment Procedures

You may mail, email, or hand-deliver comments to Dennis Thompson, Recreational Planner, at the addresses listed above (See ADDRESSES). Written comments on the proposed supplementary rules should be specific and confined to issues pertinent to the proposed rules, and should explain the reason for any recommended change. Where possible, comments should reference the specific section or paragraph of the proposal that the commenter is addressing. The BLM is not obligated to consider, or include in the Administrative Record for the final supplementary rules, comments delivered to an address other than those listed above (See ADDRESSES) or comments that the BLM receives after the close of the comment period (See DATES), unless they are postmarked or electronically dated before the deadline.

Comments, including names, street addresses, and other contact information for respondents, will be available for public review at the BLM Burley Field Office address listed in ADDRESSES during regular business hours (8:00 a.m. to 4:30 p.m., Monday through Friday, except Federal holidays). Before including your address, phone number, email address, or other personal identifying information in your comment, you should be aware that your comment—including your personal identifying information—may be made publicly available at any time. While you can ask us in your comment to withhold your personal identifying information from public review, we cannot guarantee that we will be able to do so.

III. Discussion of Proposed Supplementary Rules

These supplementary rules are necessary to protect the cultural and natural resources within the 400-acre BLM parcel at Castle Rocks as described in the CRMP amendment environmental assessment (EA).

The proposed supplementary rules would prohibit traditional rock climbing, sport rock climbing, bouldering, staging, trail building, and camping on BLM-administered public land within the Castle Rocks area because of adverse effects to cultural resources resulting from these activities. Use of the existing Stines Creek trail as shown on the 2012 Oakley 1:100,000 surface management Status Map would still be authorized. The EA for the CRMP amendment (Appendix II) designates the trail appropriate for foot, horse, or bike use and describes the authorized course of the trail.

IV. Procedural Matters

Executive Order 12866, Regulatory Planning and Review

The proposed supplementary rules are not a significant regulatory action and are not subject to review by the Office of Management and Budget under Executive Order 12866. They would not have an effect of $100 million or more on the economy. They would not adversely affect, in a material way, the economy; productivity; competition; jobs; environment; public health or safety; or State, local, or tribal governments or communities. The proposed supplementary rules would not create a serious inconsistency or otherwise interfere with an action taken or planned by another agency. They would not materially alter the budgetary effects of entitlements, grants, user fees, or loan programs or the right or obligations of their recipients; nor would they raise novel legal or policy issues. The proposed rules merely contain rules of conduct for public use of a limited selection of public lands to protect public health and safety.

Clarity of the Supplementary Rules

Executive Order 12866 requires each agency to write regulations that are simple and easy to understand. The BLM invites your comments on how to make these proposed supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce their clarity?

(4) Would the proposed supplementary rules be easier to understand if they were divided into more (but shorter) sections?

(5) Is the description of the proposed supplementary rules in the SUPPLEMENTARY INFORMATION section of this preamble helpful to your understanding of the proposed supplementary rules? How could this description be more helpful in making the proposed supplementary rules easier to understand? Please send any comments you have on the clarity of the proposed supplementary rules to the address specified in the ADDRESSES section.

National Environmental Policy Act (NEPA)

The BLM prepared an EA as part of the development of the CRMP amendment at Castle Rocks. During that NEPA process, alternative decisions for the CRMP amendment were fully analyzed or discussed and offered for public comment, including the substance of these proposed supplementary rules. The pertinent analysis can be found in Chapter 4 of the CRMP Amendment and Proposed Decision Record, April, 2013. The ROD for the CRMP was signed by the Idaho BLM State Director on November 20, 2013. These proposed supplementary rules would provide for enforcement of the plan decisions. The rationale for the decisions made is fully covered in the ROD. It is available for review in the BLM administrative record at the address specified in the “ADDRESSES” section and online at http://www.blm.gov/id/st/en/prog/cultural/climbing-CastleRocks_EA.html.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These proposed supplementary rules would merely establish rules of conduct for use of a limited area of public lands and would have no effect on business entities of any size. Therefore, the BLM has determined, under the RFA, that the proposed supplementary rules would not have a significant economic impact on a substantial number of small entities.

Small Business Regulatory Enforcement Fairness Act

These proposed supplementary rules do not constitute a “major rule” as defined at 5 U.S.C. 804(2). They would not result in an effect on the economy of $100 million or more, an increase in costs or prices, or significant adverse effects on competition, employment, investment, productivity, innovation, or the ability of United States-based enterprises to compete with foreign-based enterprises in domestic and export markets. These proposed supplementary rules would merely establish rules of conduct for use of a limited area of public lands and do not affect commercial or business activities of any kind.

Unfunded Mandates Reform Act

These proposed supplementary rules would not impose an unfunded mandate on State, local, or tribal governments or the private sector of more than $100 million per year nor do they have a significant or unique effect on State, local, or tribal governments or the private sector. Therefore, the BLM is not required to prepare a statement containing the information required by the Unfunded Mandates Reform Act (2 U.S.C. 1531 et seq.).

Executive Order 12630, Governmental Actions and Interference With Constitutionally Protected Property Rights (Takings)

These proposed supplementary rules would not have significant takings implications nor would they be capable of interfering with constitutionally protected property rights. Therefore, the BLM has determined that these rules would not cause a “taking” of private property or require preparation of a takings assessment.

Executive Order 13132, Federalism

These proposed supplementary rules would not have a substantial direct effect on the States, on the relationship between the Federal Government and the States, or on the distribution of power and responsibilities among the various levels of government. The proposed supplementary rules would not conflict with any law or regulation of the State of Idaho. Therefore, in accordance with Executive Order 13132, the BLM has determined that these proposed supplementary rules would not have sufficient federalism implications to warrant preparation of a Federalism Assessment.

Executive Order 12988, Civil Justice Reform

The BLM has determined that these proposed supplementary rules would not unduly burden the judicial system and that they meet the requirements of sections 3(a) and 3(b)(2) of Executive Order 12988.

Executive Order 13175, Consultation and Coordination With Indian Tribal Governments

Consultation and Coordination with the Shoshone-Bannock and Shoshone-Paiute Tribes has been ongoing since 2010. The Tribes have been fully briefed and support these proposed supplementary rules.

Information Quality Act

The Information Quality Act (Section 515 of Pub. L. 106-554) requires Federal agencies to maintain adequate quality, objectivity, utility, and integrity of the information that they disseminate. In developing these proposed supplementary rules, the BLM did not conduct or use a study, experiment, or survey or disseminate any information to the public.

Executive Order 13211, Actions Concerning Regulations That Significantly Affect Energy Supply, Distribution, or Use

These proposed supplementary rules would not constitute a significant energy action. The proposed supplementary rules would not have an adverse effect on energy supplies, production, or consumption, and have no connection with energy policy.

Paperwork Reduction Act

These proposed supplementary rules do not contain information collection requirements that the Office of Management and Budget must approve under the Paperwork Reduction Act of 1995, 44 U.S.C. 3501 et seq.

Author

The principal author of these supplementary rules is Michael C. Courtney, Burley Field Manager, Bureau of Land Management.

For the reasons stated in the Preamble, and under the authority of 43 CFR 8365.1-6, the Burley Field Office, Bureau of Land Management, proposes to issue supplementary rules for BLM-administered lands covered under the Cassia Resource Management Plan Amendment at Castle Rocks, to read as follows:

SUPPLEMENTARY RULES FOR THE PORTION OF THE CASTLE ROCKS AREA MANAGED BY THE U.S. BUREAU OF LAND MANAGEMENT

Definitions:

Traditional rock climbing means a style of climbing where a climber or group of climbers places all gear required to protect against falls and removes it when passage is complete.

Sport rock climbing means a style of climbing that relies on fixed protection against falls, usually bolts and/or top anchors.

Bouldering means ropeless climbing that involves short, sequential moves on rock usually no more than 20 feet off the ground and uses bouldering crash pads at the base of the climbing area to prevent injuries from falls.

Staging means assembling, unpacking or otherwise preparing gear for climbing; typically conducted at the base of a cliff, where gear such as backpacks may also be left during a climb, but in some cases, is conducted at the top of a cliff.

Trail building means the act of creating new travel routes through the use of tools; or user-created trails developed through repeated visits to a specific destination. EA DOI-BLM-ID-T020-2013-0010-EA, Appendix II serves as the baseline for existing trails on BLM lands.

Camping means setting up, occupying or making use of a place for shelter or overnight stay.

On BLM-administered public land within the Castle Rocks area, the following supplementary rules apply:

1. Traditional and sport rock climbing and bouldering are prohibited.

2. Staging is prohibited.

3. Camping is prohibited.

4. Trail building is prohibited.

EXCEPTIONS: The following persons are exempt from these supplementary rules:

A. Any Federal, State, local and/or military employee acting within the scope of their duties;

B. Members of any organized rescue or fire-fighting force in performance of an official duty; and

C. Persons, agencies, municipalities, or companies holding an existing special-use permit and operating within the scope of their permit.

PENALTIES: On public lands under Section 303(a) of the Federal Land Policy and Management Act of 1976 (43 U.S.C. 1733(a)) and 43 CFR 8360.0-7, any person who violates any of these supplementary rules may be tried before a United States Magistrate and fined no more than $1,000 or imprisoned for no more than 12 months or both. Such violations may also be subject to enhanced fines provided for by 18 U.S.C. 3571.

Timothy M. Murphy,
Idaho State Director, Bureau of Land Management.

[FR Doc. 2014-24471 Filed 10-14-14; 8:45 am]

BILLING CODE 4310-GG-P